DEPARTMENT OF HOUSING AND URBAN DEVELOPMENT

[Docket No. FR-7098-N-19; OMB Control No.: 2502-0587]

60-Day Notice of Proposed Information Collection: Section 8 Renewal Policy Guidebook

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 24, 2026.

ADDRESSES: Interested persons are invited to submit comments regarding this proposal.

Written comments and recommendations for the proposed information collection can be sent within 60 days of publication of this notice to www.regulations.gov. Interested persons are also invited to submit comments regarding this proposal and comments should refer to the proposal by name and/or OMB Control Number and should be sent to: Darian Ziegler, Department of Housing and Urban Development, 451 7th Street SW, Room 4144, Washington, DC 20410.

FOR FURTHER INFORMATION CONTACT: Darian Ziegler, PRA Liaison, Department of Housing and Urban Development, 451 7th Street SW, Washington, DC 20410; email Darian.Ziegler@hud.gov or telephone 202-402-4144. This is not a toll-free number. HUD welcomes and is prepared to receive calls from individuals who are deaf or hard of hearing, as well as individuals with speech and communication disabilities. To learn more about how to make an accessible telephone call, please visit https://www.fcc.gov/consumers/guides/telecommunications-relay-service-trs.

Copies of available documents submitted to OMB may be obtained from Ms. Ziegler.

SUPPLEMENTARY INFORMATION:

A. Overview of Information Collection

Title of information collection: Section 8 Contract Renewal Policy.

OMB approval number: 2502-0587.

OMB expiration date: June 30, 2027.

Type of request: Revision of a currently approved collection.

Form numbers:

1. Amendment to Project-Based Section 8 Housing Assistance Payments Contract Pursuant to Section 8(bb)(1) of the United States Housing Act of 1937: HUD-93185a; HUD-93185b.

2. Letters to Owners/Agents: HUD-9626.

3. Request to Renew Using Fair Market Rents (FMRs) as Market Ceiling: HUD-9630.

4. Project-Based Section 8 Contract Administration Consent to Assignment of HAP Contract as Security for Freddie Mac Financing: HUD-9648a.

5. NEW FORM Project-Based Section 8 Contract Administration Consent to Assignment of HAP Contract to Freddie Mac as Security for Freddie Mac Credit Enhancement: HUD-9648b.

6. Project-Based Section 8 Contract Administration Consent to Assignment of HAP Contract to FNMA as Security for FNMA Credit Enhancement: HUD-9648d.

7. Project-Based Section 8 Contract Administration Consent to Assignment of HAP Contract as Security for Financing: HUD-9649.

8. Consent to Assignment of Senior Preservation Rental Assistance Contracts (SPRAC) as Security for Financing: HUD-9649a.

9. NEW FORM Project-Based Section 8 Contract Administration Consent to Assignment of HAP Contract as Security for Financing When HFA is Both Lender and Contract Administrator: HUD-9649b.

10. Project-Based Section 8 Contract Administration Consent to Assignment of HAP Contract as Security for FNMA Financing: HUD-9651.

Information collection | Number of respondents | Total annual responses | Burden hours per response | Total annual burden hours | Hourly cost to public | Total annual cost to public | Hourly cost to government | Total annual cost to government
Amendment to Project-Based Section 8 Housing Assistance Payments Contract [Contract A1] Pursuant to Section 8(bb)(1) of the United States Housing Act of 1937 (HUD-93185a) | 25 | 25 | 0.50 | 13 | $39.72 | $496.50 | $51.18 | $639.75
Amendment to Project-Based Section 8 Housing Assistance Payments Contract [Contract B] Pursuant to Section 8(bb)(1) of the United States Housing Act of 1937 (HUD-93185b) | 25 | 25 | 0.50 | 13 | 39.72 | 496.50 | 51.18 | 639.75
Letters to Owners/Agents: Option 1 and 3 (HUD-9626) | 419 | 419 | 0.25 | 105 | 39.72 | 4,160.67 | 51.18 | 5,361.11
Request to Renew Using FMRs as Market Ceiling (HUD-9630) | 88 | 88 | 0.50 | 44 | 39.72 | 1,747.68 | 51.18 | 2,251.92
Consent to Assignment of HAP Contract as Security for Freddie Mac Financing (HUD-9648a) | 50 | 50 | 0.50 | 25 | 39.72 | 993.00 | 51.18 | 1,279.50
Project-Based Section 8 Contract Administration Consent to Assignment of HAP Contract to Freddie Mac as Security for Freddie Mac Credit Enhancement (HUD-9648b) | 50 | 50 | 0.50 | 25 | 39.72 | 993.00 | 51.18 | 1,279.50
Consent to Assignment of HAP Contract to FNMA as Security for FNMA Credit Enhancement (HUD-9648d) | 50 | 50 | 0.50 | 25 | 39.72 | 993.00 | 51.18 | 1,279.50
Consent to Assignment of HAP Contract as Security for Financing (HUD-9649) | 600 | 600 | 0.50 | 300 | 39.72 | 11,916.00 | 51.18 | 15,354.00
Project-Based Section 8 Contract Administration Consent to Assignment of HAP Contract as Security for Financing When HFA is Both Lender and Contract Administrator (HUD-9649b) | 100 | 100 | 0.50 | 50 | 39.72 | 1,986.00 | 51.18 | 2,559.00
Consent to Assignment of HAP Contract as Security for FNMA Financing (HUD-9651) | 100 | 100 | 0.50 | 50 | 39.72 | 1,986.00 | 51.18 | 2,559.00
Total | 1,507 | 1,507 |  | 650 |  | 25,768.35 |  | 33,203.03

Description of the need for the information and proposed use: The Section 8 Renewal Policy Guidebook explains the various options available under the Multifamily Housing Reform and Affordability Act of 1997 (MAHRA) for the renewal of expiring project-based section 8 contracts and the adjustment of contract rents and establishes related administrative policies. Stakeholders have identified the need for corrections to 8 existing forms and the creation of 2 new forms.

Respondents: Businesses or other for-profit and not-for-profit entities.

Estimated number of respondents: 1,507.

Estimated number of responses: 1,507.

Frequency of response: Various.

Average hours per response: 0.43 hours.

Total estimated burden hours: 650 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments.

C. Authority

Section 2 of the Paperwork Reduction Act of 1995, 44 U.S.C. 3507.

Vance T. Morris,
Associate General Deputy Assistant, Secretary for Housing, H.

[FR Doc. 2026-01289 Filed 1-22-26; 8:45 am]

BILLING CODE 4210-67-P